DEPARTMENT OF TRANSPORTATION

National Highway Traffic Safety Administration

[Docket No. NHTSA-99-6583; Notice 2]

Supplemental Notice on Public Workshop

AGENCY: National Highway Traffic Safety Administration.

ACTION: Supplemental notice on public workshop.

SUMMARY: We are issuing this notice to provide additional information about the public workshop we will be hosting for the New Car Assessment Program (NCAP) on Consumer Braking Information. The purpose of this program is to provide comparative stopping distance performance of light vehicles, currently targeted to those light vehicles equipped with 4-wheel anti-lock braking systems (ABS). Our workshop will focus on the issues discussed in the Request for Comments notice published on July 17, 2001, including driver variability, test pavement variability, and consumer information format. The results of this workshop will be included in the subject docket along with other written comments received by October 15, 2001. These comments, and any data that are submitted, will be used to assist in finalizing plans for a pilot program on brake testing of model year 2003 vehicles.

DATES: We will hold the public workshop on September 26, 2001, from 9 a.m. to 4 p.m. If you wish to participate in the meeting, or submit comments on the proposed agenda, please contact Mr. Jeff Woods, at the address or telephone number listed below, by September 24, 2001. If you wish to give a presentation at the meeting, please provide a synopsis of your presentation to Mr. Woods by September 19, 2001. Presentations shall be limited to 30 minutes with a brief question-and-answer opportunity following each presentation.

ADDRESSES: Public Workshop: We will hold the public meeting in room 6332-6336 of the Department of Transportation Nassif Building, 400 Seventh Street, SW., Washington, DC 20590.

FOR FURTHER INFORMATION CONTACT: Mr. Jeff Woods, Office of Safety Performance Standards, NPS-22, National Highway Traffic Safety Administration, 400 Seventh Street SW., Washington, DC 20590. Telephone: (202) 366-6206; Fax: (202) 366-4329, email: jwoods@nhtsa.dot.gov.

SUPPLEMENTARY INFORMATION:

Background

On July 17, 2001, we published a Federal Register Notice (66 FR 37253) requesting comments on our consumer braking information program for light vehicles that are currently subjected to the NCAP program. We also announced a public workshop for September 26, 2001, to discuss some of the technical issues about this braking information program. This notice provides additional details of the workshop, including the location, time, agenda and goals of the workshop.

In the July 17, 2001 notice, the agency provided an extensive discussion of the history of the program, the research conducted to date, a discussion of some of the issues that the agency feels have been resolved, and a detailed description of the draft test protocol. This previous notice can be found in the subject docket (see instructions on how to access the docket below under Availability of Relevant Documents below).

Public Meeting

A. Time/Location

The workshop will be held Wednesday, September 26, 2001, at the Department of Transportation headquarters building (also known as the Nassif Building), 400 Seventh Street, SW., Washington, DC 20590, Room 6332-6336. The meeting will be from 9 a.m. until 4 p.m.

B. Purpose

The purpose of the meeting is to obtain more technical information and discuss some of the outstanding issues related to the consumer braking information program. The specific issues that we would like to focus on include:

• Driver Variability

• Test Surface Variability

• Consumer Information Format

Though our primary focus will be on these issues, we will be open to presentations and discussions of other relevant technical issues related to the program, as time allows.

C. Agenda for the Public Workshop on NCAP Braking

I. Opening Remarks

II. Introduction

Agency Presentation—Brief overview of the development of the NCAP Braking program

III. Technical Presentations

A. Driver Variability

B. Surface Variability

C. Consumer Information Format

IV. Post Presentation Open Discussions

If possible the presentations will be scheduled by the primary subject of the presentations, as listed in the agenda. However, speakers are encouraged to make their entire presentation at one time.

D. Procedural Matters

The meeting will be moderated by a NHTSA representative.

After each presentation, there will be a ten-minute opportunity to address questions from the agency panel and from the audience.

To facilitate communication, we will provide auxiliary aids (e.g., sign-language interpreter) to participants as necessary, during the meeting. Any person desiring assistance of auxiliary aids should contact Mr. Woods no later than 10 days before the meeting. For any presentation that will include slides, motion pictures, a computer projector, or any other visual aids, the presenters should bring at least two paper copies of the presentation to the meeting so that we can provide a copy to the court reporter and readily include the material in the public record. In addition, we will make a verbatim record of the public meeting and place a copy in the docket.

E. Availability of Relevant Documents

The July 17, 2001, Request for Comments notice for the NCAP Braking program has been placed in the docket. To obtain that notice, you may either visit the docket in Washington, DC, or query the Department of Transportation docket website.

The docket is located at Room PL-401, 400 Seventh Street, SW., Washington, DC. Docket hours are 9 a.m. to 5 p.m., Monday through Friday. The Docket Management System website is http://dms.dot.gov/. You should search for Docket No. 6583.

F. Written Comments

If you wish to submit written comments on the issues discussed at the meeting, please submit them by the comment closing date of October 15, 2001. Comments must refer to the Docket and Notice numbers cited at the beginning of this Notice and be submitted to: Docket Management, Room PL-401, 400 Seventh Street, SW., Washington, DC 20590. The Docket Section is open on weekdays from 9 a.m. to 5 p.m. Alternatively, you may submit your comments electronically by logging onto the Docket Management System website at http://dms.dot.gov. Click on “Help & Information” or “Help/Info” to view instructions for filing your comments electronically. Regardless of how you submit your comments, you should mention the docket number (6583) of this program.

Issued on: August 28, 2001.
Claude H. Harris,
Acting Associate Administrator for Safety Performance Standards.

[FR Doc. 01-22113 Filed 8-31-01; 8:45 am]

BILLING CODE 4910-59-P